DEPARTMENT OF HEALTH AND HUMAN SERVICES

Food and Drug Administration

Science and Regulation of Biological Products: From a Rich History to a Challenging Future; Public Symposium; Amendment

AGENCY: Food and Drug Administration, HHS.

ACTION: Notice of public symposium; amendment.

SUMMARY: The Food and Drug Administration (FDA) is announcing an amendment to the notice of public symposium entitled “Science and Regulation of Biological Products: From a Rich History to a Challenging Future.” The public symposium was announced in the Federal Register of July 17, 2002 (67 FR 46993). The purpose of the symposium is to commemorate the 100th anniversary of the enactment of the Biologics Control Act, the first Federal law regulating biological products. The amendment is being made to reflect a change in the building location. There are no other changes.

FOR FURTHER INFORMATION CONTACT: Gail Sherman, Center for Biologics Evaluation and Research (HFM-42), Food and Drug Administration, 1401 Rockville Pike, Rockville, MD 20852, 301-827-2000, or e-mail: Sherman@cber.fda.gov.

SUPPLEMENTARY INFORMATION: In the Federal Register of July 17, 2002, FDA announced that a public symposium entitled “Science and Regulation of Biological Products: From a Rich History to a Challenging Future” would be held on September 23 and 24, 2002, at the National Institutes of Health (NIH), Natcher Conference Center, Bldg. 45, 45 Center Dr., Bethesda, MD. On page 46993, in the first column, the Location section of this public symposium is amended to read as follows:

Location: The public symposium will be held at the National Institutes of Health (NIH), Warren Grant Magnuson Clinical Center, Bldg. 10, 10 Center Dr., Bethesda, MD 20892.

Dated: August 27, 2002.
Margaret M. Dotzel,
Associate Commissioner for Policy.

[FR Doc. 02-22409 Filed 9-3-02; 8:45 am]

BILLING CODE 4160-01-S